DEPARTMENT OF THE TREASURY

Submission for OMB Review; Comment Request

December 21, 2006.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW Washington, DC 20220.

DATES: Written comments should be received on or before January 29, 2007 to be assured of consideration.

Internal Revenue Service (IRS)

OMB Number: 1545-1144.

Type of Review: Revision.

Title: Generation-Skipping Transfer Tax Return for Distributions.

Form: 706-GS(D).

Description: Form 706-GS(D) is used by distributees to compute and report the Federal GST tax imposed by IRC section 2601. IRS uses the information to enforce this tax and to verify that the tax has been properly computed.

Respondents: Individuals or Households.

Estimated Total Burden Hours: 980 hours.

OMB Number: 1545-1447.

Type of Review: Extension.

Title: CO-46-94 (Final) Losses on Small Business Stock.

Description: Records are required by the Service to verify that the taxpayer is entitled to a section 1244 loss. The records will be used to determine whether the stock qualifies as section 1244 stock.

Respondents: Businesses and other for-profit institutions.

Estimated Total Burden Hours: 2,000 hours.

Clearance Officer: Glenn P. Kirkland, Internal Revenue Service, Room 6516, 1111 Constitution Avenue, NW., Washington, DC 20224, (202) 622-3428.

OMB Reviewer: Alexander T. Hunt , Office of Management and Budget, Room 10235, New Executive Office Building, Washington, DC 20503, (202) 395-7316.

Robert Dahl,
Treasury PRA Clearance Officer.

[FR Doc. E6-22296 Filed 12-27-06; 8:45 am]

BILLING CODE 4830-01-P